EXPORT-IMPORT BANK

[Public Notice 99]

Agency Information Collection Activities: Submission for OMB Review; Comment Request

AGENCY: Export-Import Bank of the United States.

ACTION: Notice and request for comments.

SUMMARY: The Export-Import Bank of the United States (“Ex-Im Bank”) is seeking approval of the proposed information collection described below. Ex-Im Bank provides insurance and guarantees for the financing of exports of goods and services. This collection allows our customers the convenience of online claim filing in connection with a defaulted export transaction. Its use expedites claim filing and provides for simpler, more efficient processing of insurance, guarantee, and working capital claims. As part of its continuing effort to reduce paperwork and respondent burden, Ex-IM Bank invites the general public and other Federal Agencies to comment on the proposed information collection as required by the Paperwork Reduction Act of 1995.

SUPPLEMENTARY INFORMATION: This notice is soliciting comments from the public concerning the proposed collection of information to: (1) Evaluate whether the proposed collection is necessary for the performance of the functions of the agency, including whether the information will have practical utility; (2) evaluate the accuracy of the agency's estimate of the burden of the proposed information collection; (3) enhance the quality, utility, and clarity of the information to be collected; and (4) minimize the burden of collection of information on those who are to respond, including through the use of appropriate automated collection techniques or other forms of information technology, e.g., permitting electronic submission of responses.

DATES: Written comments should be received on or before August 17, 2007 to be assured of consideration.

ADDRESSES: Direct all comments and requests for information to Terry M. Faith, Export-Import Bank of the U.S., 811 Vermont Avenue, NW., Washington, DC 20571, (202) 565-3607 or (800) 565-3946, x 3607, or Terry.M.Faith@exim.gov.

Titles and Form Numbers: Export-Import Bank for the United States Electronic Claim Filing System: Insurance: EIB 07-01A, Medium-Term Bank Guarantee: EIB 07-01B, and Working Capital Guarantee: EIB 07-01C.

OMB Number: None.

Type of Review: Regular.

Need and Use: The proposed information collection provides Ex-Im Bank with information necessary to process the filing of a claim under Ex-IM Bank's Multi-buyer Insurance Policy, Medium Term Guarantee and Working Capital Guarantee programs. The information collection enables claimants to file a claim online, thereby allowing for a simpler, more efficient process.

Affected Public: Insured parties and brokers.

| EIB 07-01A | EIB 07-01B | EIB 07-01C
Estimated Annual Respondents | 32 | 10 | 10
Estimated Time Per Respondent | 1 Hr | 1 Hr | 1½ Hrs.
Estimated Annual Burden | 32 Hrs | 10 Hrs | 15 Hrs.

Frequency of Response: One form per claim.

Dated: June 11, 2007.
Solomon Bush,
Agency Clearance Officer.

[FR Doc. 07-2977 Filed 6-15-07; 8:45 am]

BILLING CODE 6690-01-M